DEPARTMENT OF HEALTH AND HUMAN SERVICES

National Institutes of Health

Submission for OMB Review; 30-Day Comment Request; Proposed Collection; Generic Clearance for Conferences, Meetings, Workshops, Poster Sessions and Registration (OD)

AGENCY: National Institutes of Health, HHS.

ACTION: Notice.

SUMMARY: In compliance with the Paperwork Reduction Act of 1995, the National Institutes of Health (NIH) has submitted to the Office of Management and Budget (OMB) a request for review and approval of the information collection listed below.

DATES: Comments regarding this information collection are best assured of having their full effect if received within 30-days of the date of this publication.

ADDRESSES: Written comments and/or suggestions regarding the item(s) contained in this notice, especially regarding the estimated public burden and associated response time, should be directed to the: Office of Management and Budget, Office of Regulatory Affairs, OIRA_submission@omb.eop.gov or by fax to 202-395-6974, Attention: Desk Officer for NIH.

FOR FURTHER INFORMATION CONTACT: To request more information on the proposed project or to obtain a copy of the data collection plans and instruments, contact: Ms. Mikia P. Currie, Chief, Project Clearance Branch (PCB), Office of Policy for Extramural Research Administration, 6705 Rockledge Drive, Suite 350, Bethesda, Maryland 20892, or call a non-toll-free number 301-435-0941 or Email your request, including your address to curriem@mail.nih.gov.

SUPPLEMENTARY INFORMATION: This proposed information collection was previously published in the Federal Register on March 12, 2019, page 8882 (84 FR 8882) and allowed 60 days for public comment. No public comments were received. The purpose of this notice is to allow an additional 30 days for public comment. The Office of Director, National Institutes of Health, may not conduct or sponsor, and the respondent is not required to respond to, an information collection that has been extended, revised, or implemented on or after October 1, 1995, unless it displays a currently valid OMB control number.

In compliance with Section 3507(a)(1)(D) of the Paperwork Reduction Act of 1995, the National Institutes of Health (NIH) has submitted to the Office of Management and Budget (OMB) a request for review and approval of the information collection listed below.

Proposed Collection: Generic Clearance for Conferences, Meetings, Workshops, Poster Sessions and Registration (OD), EXTENSION, 0925-0740, Expiration Date: 05/2019, National Institutes of Health (NIH), Office of the Director (OD).

Need and Use of Information Collection: This information collection will continue to allow NIH to select the most appropriate participants for non-grantee activities sponsored, organized, and run by NIH staff, according to the type and purpose of the activity. For example, NIH may develop an application process or information collection to select a limited number of researchers to participate in a poster session, identify speakers and panelists with desired expertise on a specific topic to be covered at a meeting, or determine which researchers would most likely benefit from a training course or other opportunity. For NIH to plan and conduct activities that are timely for participants and their fields of research, it is often necessary for such information to be collected with a relatively short turnaround time. In general, submitted abstracts or other application materials will be reviewed by an internal NIH committee responsible for planning the activities. This committee will be responsible for selecting and notifying participants.

The information collected for these activities generally includes title, author(s), institution/organization, poster size, character limitations along with other requirements. This information is necessary to identify attendees as eligible for poster presentations, to present their research, speak on panels, and discuss innovative approaches to science and technology to their peers. The registration form collects information from interested parties necessary to register them for a workshop.

OMB approval is requested for 3 years. There are no costs to respondents other than their time. The total estimated annualized burden hours are 8,875.

Estimated Annualized Burden Table
Type of form | Number of respondents | Number of responses per respondent | Average burden per response (in hours) | Total burden hours
Conferences | 2,500 | 1 | 1 | 2,500
Meetings | 2,500 | 1 | 45/60 | 1,875
Workshops | 2,500 | 1 | 30/60 | 1,250
Poster Session | 1,000 | 1 | 1 | 1,000
Panels | 1,500 | 1 | 30/60 | 750
Presentations | 1,500 | 1 | 1 | 1,500
Total |  | 11,500 |  | 8,875

Dated: May 27, 2019.
Lawrence A. Tabak,
Principal Deputy Director, National Institutes of Health.

[FR Doc. 2019-11422 Filed 5-30-19; 8:45 am]

BILLING CODE 4140-01-P